ENVIRONMENTAL PROTECTION AGENCY

[EPA-HQ-OAR-2007-1196; FRL-9113-6]

Recent Postings of Broadly Applicable Alternative Test Methods

AGENCY: Environmental Protection Agency (EPA).

ACTION: Notice of availability.

SUMMARY: This notice announces the broadly applicable alternative test method approval decisions the EPA has made under and in support of New Source Performance Standards (NSPS) and the National Emission Standards for Hazardous Air Pollutants (NESHAP) in 2009.

FOR FURTHER INFORMATION CONTACT: An electronic copy of each alternative test method approval document is available on EPA's Web site at http://www.epa.gov/ttn/emc/approalt.html. For questions about this notice, contact Jason M. DeWees, Air Quality Assessment Division, Office of Air Quality Planning and Standards (E143-02), Environmental Protection Agency, Research Triangle Park, NC 27711; telephone number: 919-541-9724; fax number: 919-541-0516; e-mail address: dewees.jason@epa.gov. For technical questions about individual alternative test method decisions, refer to the contact person identified in the individual approval documents.

SUPPLEMENTARY INFORMATION:

I. General Information

A. Does this notice apply to me?

This notice will be of interest to entities regulated under 40 Code of Federal Regulations (CFR) parts 60, 61, and 63, State, local, and Tribal agencies, and EPA Regional Offices responsible for implementation and enforcement of regulations under 40 CFR parts 60, 61, and 63.

B. How can I get copies of this information

You may access copies of the broadly applicable alternative test method approval documents from the EPA's Web site at http://www.epa.gov/ttn/emc/approalt.html.

II. Background

This notice identifies EPA's broadly applicable alternative test method approval decisions issued between January 1, 2009, and December 31, 2009, under the NSPS, 40 CFR part 60, and the NESHAP, 40 CFR parts 61 and 63 (see Table 1). Source owners and operators may voluntarily use these broadly applicable alternative test methods subject to their specific applicability. Use of these broadly applicable alternative test methods does not change the applicable emission standards.

As explained in a previous Federal Register notice published at 72 FR 4257 (January 30, 2007) and found on the EPA's Web site at http://www.epa.gov/ttn/emc/approalt.html, the EPA Administrator has the authority to approve the use of alternative test methods to comply with requirements under 40 CFR parts 60, 61, and 63. This authority is found in sections 60.8(b)(3), 61.13(h)(1)(ii), and 63.7(e)(2)(ii). In the past, we have performed thorough technical reviews of numerous requests for alternatives and modifications to test methods and procedures. Based on these experiences, we have often found that these changes or alternatives would be equally valid and appropriate to apply to other sources within a particular class, category, or subcategory. Consequently, we have concluded that, where a method modification or an alternative method is clearly broadly applicable to a class, category, or subcategory of sources, it is both more equitable and efficient to approve its use for all appropriate sources and situations at the same time.

It is important to clarify that alternative methods are not mandatory but permissive. Sources are not required to employ such a method but may choose to do so in appropriate cases. Source owners or operators should review the specific broadly applicable alternative method approval decision on the EPA's Web site at http://www.epa.gov/ttn/emc/approalt.html before electing to employ it. As per 63.7(f)(5) by electing to use an alternative method for 40 CFR part 63 standards, the source owner or operator must use the alternative method until approved otherwise.

The criteria for approval and procedures for submission and review of broadly applicable alternative test methods are outlined at 72 FR 4257 (January 30, 2007). EPA will continue to announce approvals for broadly applicable alternative test methods on the EPA's Web site at http://www.epa.gov/ttn/emc/approalt.html and intends to publish a notice annually that summarizes approvals for broadly applicable alternative test methods.

This notice comprises a summary of fourteen such approval documents added to our technology transfer network from January 1, 2009, through December 31, 2009. The alternative test method number, the reference method affected, sources allowed to use this alternative, and modification or alternative method allowed are summarized in Table 1 of this notice. Please refer to the complete copies of these approval documents available from the EPA's Web site at http://www.epa.gov/ttn/emc/approalt.html as the table serves only as a brief summary of the broadly applicable alternative test methods. If you are aware of reasons why a particular alternative test method approval that we issue should not be broadly applicable, we request that you make us aware of the reasons in writing and we will revisit the broad approval. Any objection to a broadly applicable alternative test method as well as the resolution of that objection will be announced on the EPA's Web site at http://www.epa.gov/ttn/emc/approalt.html and in the subsequent Federal Register notice. If we should decide to retract a broadly applicable test method, we would continue to grant case-by-case approvals, as appropriate, and would (as States, local and Tribal agencies and EPA Regional Offices should) consider the need for an appropriate transition period for users either to request case-by-case approval or to transition to an approved method.

Dated: February 3, 2010.
Jennifer Noonan Edmonds,
Acting Director, Office of Air Quality Planning and Standards.

Table 1—Approved Alternative Test Methods and Modifications to Test Methods Referenced in or Published Under Appendices in 40 CFR Parts 60, 61, and 63 Made Between January 2009 and December 2009
Alternative No. | As an alternative or modification to . . . | For . . . | You may . . .
ALT-050 | Method 25D—Determination of the Volatile Organic Concentration of Waste Samples | Sources subject to 40 CFR part 63, subpart FFFF, National Emission Standards for Hazardous Air Pollutants for Miscellaneous Organic Chemical Manufacturing | Use EPA SW-846 Method 8260B for the analysis of Methyl Methacrylate in lieu of Method 25D.
ALT-050 | Method 305—Measurement of Emission Potential of Individual Volatile Organic Compounds in Waste | Sources subject to 40 CFR part 63, subpart FFFF, National Emission Standards for Hazardous Air Pollutants for Miscellaneous Organic Chemical Manufacturing | Use EPA SW-846 Method 8260B for the analysis of Methyl Methacrylate in lieu of Method 305.
ALT-050 | Method 624—Purgeables | Sources subject to 40 CFR part 63, subpart FFFF, National Emission Standards for Hazardous Air Pollutants for Miscellaneous Organic Chemical Manufacturing | Use EPA SW-846 Method 8260B for the analysis of Methyl Methacrylate in lieu of Method 624.
ALT-050 | Method 625—Base/Neutrals and Acids | Sources subject to 40 CFR part 63, subpart FFFF, National Emission Standards for Hazardous Air Pollutants for Miscellaneous Organic Chemical Manufacturing | Use EPA SW-846 Method 8260B for the analysis of Methyl Methacrylate in lieu of Method 625.
ALT-050 | Method 1624—Volatile Organic Compounds by Isotope Dilution GC/MS | Sources subject to 40 CFR part 63, subpart FFFF, National Emission Standards for Hazardous Air Pollutants for Miscellaneous Organic Chemical Manufacturing | Use EPA SW-846 Method 8260B for the analysis of Methyl Methacrylate in lieu of Method 1624.
ALT-050 | Method 1625—Semivolatile Organic Compounds by Isotope Dilution GC/MS | Sources subject to 40 CFR part 63, subpart FFFF, National Emission Standards for Hazardous Air Pollutants for Miscellaneous Organic Chemical Manufacturing | Use EPA SW-846 Method 8260B for the analysis of Methyl Methacrylate in lieu of Method 1625.
ALT-051 | Method 101A—Determination of Particulate and Gaseous Mercury Emissions from Sewage Sludge Incinerators | Sludge Drying or Sludge Incineration Facilities affected under the NESHAP for Mercury in 40 CFR part 61, subpart E | Use Method 29 with limitations outlined in the approval letter in lieu of Method 101A.
ALT-051 | Method 103—Beryllium Screening Method | Sludge Drying or Sludge Incineration Facilities affected under the NESHAP for Beryllium in 40 CFR part 61, subpart C | Use Method 29 in lieu of Method 103.
ALT-051 | Method 104—Determination of Beryllium Emissions from Stationary Sources | Sludge Drying or Sludge Incineration Facilities affected under the NESHAP for Beryllium in 40 CFR part 61, subpart C | Use Method 29 in lieu of Method 104.
ALT-052 | Method 23—Determination of Polychlorinated Dibenzo-p dioxins and Polychlorinated Dibenzofurans from Municipal Waste Combustors | Waste combustors or waste incinerators | Omit the methylene chloride rinse; Combine acetone and toluene rinse, filter and XAD-2 trap into one sample prior to extraction and analysis in lieu of a separate toluene analysis.
ALT-053 | Method 26A—Determination of Hydrogen Halide and Halogen Emissions from Stationary Sources Isokinetic Method | Sources subject to 40 CFR part 63, subpart EEE, National Emissions Standards for Hazardous Air Pollutants for Hazardous Waste Combustors | Replace the post-analysis check with single mid-range standard with additional quality assurance; Prepare calibration standards in water in lieu of dilute sulfuric acid or sodium hydroxide.
ALT-053 | Method 29—Determination of Metal Emissions from Stationary Sources | Sources subject to 40 CFR part 63, subpart EEE, National Emissions Standards for Hazardous Air Pollutants for Hazardous Waste Combustors | Use 0.4 percent hydrochloric acid in the digestate for the front half sample recovery.
ALT-054 | Method 25C—Determination of Non-methane Organic Compounds (NMOC) in Landfill Gas | Sources affected under the NSPS for Municipal Solid Waste Landfills in 40 CFR part 60, subpart WWW | Use leachate risers vents for sampling locations in lieu of the inserting surface probes.
ALT-055 | Method 2—Determination of Stack Gas Velocity and Volumetric Flow Rate (Type S Pitot Tube) | Flares subject to 60.18(f)(4) | Use a mass flow meter in lieu of Method 2.
ALT-055 | Method 2A—Direct Measurement of Gas Volume through Pipes and Small Ducts | Flares subject to 60.18(f)(4) | Use a mass flow meter in lieu of Method 2A.
ALT-055 | Method 2C—Determination of Gas Velocity and Volumetric Flow Rate in Small Stacks or Ducts (Standard Pitot Tube) | Flares subject to 60.18(f)(4) | Use a mass flow meter in lieu of Method 2C.
ALT-055 | Method 2D—Measurement of Gas Volume Flow Rates in Small Pipes and Ducts | Flares subject to 60.18(f)(4) | Use a mass flow meter in lieu of Method 2D.
ALT-056 | Method 26—Determination of Hydrogen Halide and Halogen Emissions from Stationary Sources Non-Isokinetic Method | Sources required to use Method 26 | Use pre-treated Teflon probes in place of borosilicate glass probes.
ALT-057 | Method 18—Measurement of Gaseous Organic Compound Emissions by Gas Chromatography | Sources subject to 40 CFR part 63, subpart DD—National Emission Standards for Hazardous Air Pollutants from Off-Site Waste and Recovery Operations | Use Method 25A in lieu of Method 18 due to the variability in the composition of the waste stream.
ALT-058 | ASTM D396—Standard Specification for Fuel Oils | Sources affected under the NSPS for Small Industrial-Commercial-Institutional Steam Generating Units in 40 CFR part 60, subpart Dc | Use ASTM D975-07b—Standard Specification for Diesel Fuel Oils in lieu of ASTM D396.
ALT-059 | ASTM D6522-00—Standard Test Method for Determination of Nitrogen Oxides, Carbon Monoxide, and Oxygen Concentrations in Emissions from Natural Gas- Fired Reciprocating Engines, Combustion Turbines, Boilers, and Process Heaters Using Portable Analyzers | Sources subject to 40 CFR part 63, subpart ZZZZ, National Emissions Standards for Hazardous Air Pollutants for Stationary Reciprocating Internal Combustion Engines | Use an unheated sampling line for carbon monoxide measurements.
ALT-060 | Method 4—Determination of Moisture Content in Stack Gases | Sources affected under the NSPS for Stationary Spark Ignition Internal Combustion Engines in 40 CFR part 60, subpart JJJJ | Use ALT-008 in lieu of Method 4.
ALT-061 | Method 1—Sample and Velocity Traverses for Stationary Sources | Sources affected under the NSPS for Stationary Spark Ignition Internal Combustion Engines in 40 CFR part 60, subpart JJJJ | Use single point testing in lieu of Method 1.
ALT-061 | Method 1A—Sample and Velocity Traverses for Stationary Sources with Small Stacks or Ducts | Sources affected under the NSPS for Stationary Spark Ignition Internal Combustion Engines in 40 CFR part 60, subpart JJJJ | Use single point testing in lieu of Method 1A.
ALT-062 | Method 29—Determination of Metal Emissions from Stationary Sources | Sources subject to 40 CFR part 63, subpart EEE—National Emission Standards for Hazardous Air Pollutants from Hazardous Waste Combustors | Use laboratory reagent water that meets ASTM Type II specifications for electrical conductivity. Use boric acid for digestion of samples; Adopt EPA CLP ILM4.0 for determining the “specified concentration range around the calibration blank”. Use 5% nitric acid and 5% hydrochloric acid matrix for the laboratory blank. Consider method blanks acceptable if the values are below the reporting limit in lieu of the method detection limit.
ALT-062 | SW-846 Method 8260B—Volatile Organic Compounds by Gas Chromatography/Mass Spectrometry (GC/MS) | Sources subject to 40 CFR part 63, subpart EEE—National Emission Standards for Hazardous Air Pollutants from Hazardous Waste Combustors | Use an alternate ion 119 for quantification of chlorobenze-d5 for the 25-mL purge test. Use a 0.2 minute absolute retention time window. Use alternate ions in the mass spectrum for the analysis of 12 target analytes. Use a single 30-mL aliquot of methylene chloride in lieu of 3 10-mL aliquots for rinse of the filter sample container or front rinse sample container for transferring sample for analysis.
ALT-062 | SW-846 Method 3542—Extraction of Semivolatile Analytes Collected using Method 0010 (Modified Method 5 Sampling Train) | Sources subject to 40 CFR part 63, subpart EEE—National Emission Standards for Hazardous Air Pollutants from Hazardous Waste Combustors | Use a continuous liquid to liquid extraction in lieu of using a separatory funnel.
ALT-062 | Method 23—Determination of Polychlorinated Dibenzo-p dioxins and Polychlorinated Dibenzofurans from Municipal Waste Combustors | Sources subject to 40 CFR part 63, subpart EEE—National Emission Standards for Hazardous Air Pollutants from Hazardous Waste Combustors | Omit the methylene chloride rinse; Combine acetone and toluene rinses, filter and XAD-2 trap into one sample prior to extraction and analysis in lieu of a separate toluene analysis. Use alternative extraction and clean-up procedures provided all quality assurance measures are met. Use an alternative ion abundance ratio for pentachlorodibenzo dioxin.
ALT-063 | Method 8—Determination of Sulfuric Acid and Sulfur Dioxide Emissions from Stationary Sources | Sources affected under the NSPS for Sulfuric Acid Plants in 40 CFR part 60, subpart H | Use Method 6C in lieu of Method 8 to certify sulfur dioxide continuous emission monitors.

Source owners or operators should review the specific broadly applicable alternative method approval letter on the EPA's Web site at http://www.epa.gov/ttn/emc/approalt.html before electing to employ it.

[FR Doc. 2010-3405 Filed 2-19-10; 8:45 am]

BILLING CODE 6560-50-P